DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: September 6, 2006, 8:30 a.m.-5 p.m.; and September 7, 2006, 8:30 a.m.-4 p.m.

Place: Hilton Washington DC North/Gaithersburg, 620 Perry Parkway, Gaithersburg, Maryland 20877.

Status: The meeting will be open to the public.

Agenda: The agenda for September 6 in the morning will include: Welcome and opening comments from the Acting Chair and Acting Executive Secretary of COGME and senior management staff of the Health Resources and Services Administration. Following will be an election of the Chair of COGME.

There will be an orientation for new council members. Later that morning there will be a presentation of resource papers on the issue of National Service for Physicians, followed by discussion. In the afternoon there will be a presentation of resource papers on the need for graduate medical education financing flexibility; a discussion of the papers will follow. There will be a discussion of next day's activities needed for the preparation of two COGME reports covering the two issues presented in the resource papers. Writing group members within COGME will be identified for each of the two reports.

In the morning of September 7, COGME members will receive ethics training as appropriate. There will be a presentation and discussion of a sixth resource paper on the need for GME flexibility. Following these discussions, the Council members will break out into two writing groups. After about four hours of writing group discussions, COGME members will reconvene in plenary session. A report will be given by the two writing group chairs of draft recommendations, proposed outline and list of members to draft each section of the two reports. There will be a discussion of the process and time-frame for producing the two report drafts.

Agenda items are subject to change as priorities dictate.

FOR FURTHER INFORMATION CONTACT: Jerald M. Katzoff, Acting Executive Secretary, COGME, Division of Medicine and Dentistry, Bureau of Health Professions, Parklawn Building, Room 9A-27, 5600 Fishers Lane, Rockville, Maryland 20857, Telephone (301) 443-6785.

Dated: August 7, 2006.
Cheryl R. Dammons,
Director, Division of Policy Review and Coordination.

[FR Doc. E6-13214 Filed 8-10-06; 8:45 am]

BILLING CODE 4165-15-P